Title 3—

The President

Proclamation 8550 of August 31, 2010

National Alcohol and Drug Addiction Recovery Month, 2010

By the President of the United States of America

A Proclamation

Each day brings new opportunities for personal growth, renewal, and transformation to millions of Americans who have chosen to forge a path toward recovery from addiction to drugs or alcohol. While addiction can destroy self-confidence, family ties, and friendships, recovery can restore the promise of a brighter tomorrow. During National Alcohol and Drug Addiction Recovery Month, we express support for those living healthy and productive lives in long-term recovery, we applaud those working to help struggling Americans break the cycle of abuse, and we encourage those in need to seek help.

This year’s theme, “Join the Voices for Recovery: Now More Than Ever!,” calls us to an urgent mission—to save lives from the hazards of addiction. As we make quality and affordable health care more accessible to all Americans, we also resolve to build a healthier Nation by increasing access to treatment and recovery programs in our health care system. To help achieve this goal, the Affordable Care Act supports services available to address addiction. Together, we can reduce the harmful consequences of untreated addiction, such as violence, failure in school, job loss, child abuse, crimes, and death. I encourage all Americans to visit RecoveryMonth.gov for more resources and information.

The journey to recovery requires great fortitude and a supportive network. As we celebrate National Alcohol and Drug Addiction Recovery Month, we also express our appreciation for the family members, mutual aid groups, peer support programs, health professionals, and community leaders that provide compassion, care, and hope. Across America, we must spread the word that substance abuse is preventable, that addiction is treatable, and that recovery is possible.

NOW, THEREFORE, I, BARACK OBAMA, President of the United States of America, by virtue of the authority vested in me by the Constitution and the laws of the United States, do hereby proclaim September 2010 as National Alcohol and Drug Addiction Recovery Month. I call upon all Americans to observe this month with appropriate programs, ceremonies, and activities, and to celebrate the lives freed from addiction to illicit drugs, alcohol, or prescription medications.

IN WITNESS WHEREOF, I have hereunto set my hand this thirty-first day of August, in the year of our Lord two thousand ten, and of the Independence of the United States of America the two hundred and thirty-fifth.

[FR Doc. 2010-22426

Filed 9-3-10; 11:15 am]

Billing code 3195-W0-P